DEPARTMENT OF COMMERCE

National Oceanic and Atmospheric Administration

50 CFR Part 635

[I.D. 042202D]

Atlantic Highly Migratory Species; Sea Turtle and Whale Protection Measures; Fishing Vessel Permits; Charter Boat Operations

AGENCY: National Marine Fisheries Service (NMFS), National Oceanic and Atmospheric Administration (NOAA), Commerce.

ACTION: Notice of public hearings; extension of comment period; request for comments.

SUMMARY: NMFS will hold four public hearings to receive comments from fishery participants and other members of the public on two proposed rules. The first would implement sea turtle and whale protection measures for the bottom longline, pelagic longline, and shark gillnet fisheries for Atlantic highly migratory species (HMS). The comment period on this proposed rule is extended to May 20, 2002, to coincide with the comment period of the supporting Draft Supplemental Environmental Impact Statement (DSEIS) issued for the rule. The second proposed rule would amend the consolidated regulations governing the Atlantic HMS fisheries to define operations and regulations for HMS Charter/Headboats (CHBs), require an Atlantic HMS recreational permit, adjust the timeframe for permit category changes for Atlantic HMS and Atlantic tunas permits, clarify the regulations regarding the retention of Atlantic bluefin tuna (BFT) in the Gulf of Mexico by recreational and HMS CHB vessels, and clarify NMFS’ authority to set different BFT recreational fishing retention limits by vessel type (e.g., charter boats, headboats). To accommodate people unable to attend a hearing or wishing to provide written comments, NMFS also solicits written comments on these proposed rules.

DATES: See SUPPLEMENTARY INFORMATION for hearing dates and times.

Written comments on the proposed rule implementing protection measures for sea turtles and whales must be received no later than 5 p.m., eastern standard time, on May 20, 2002, which was extended from May 10, 2002.

ADDRESSES: See SUPPLEMENTARY INFORMATION for hearing locations.

For copies of the proposed rule implementing protection measures for sea turtles and whales and the DSEIS contact Tyson Kade or Margo Schultze-Haugen at 301-713-2347, or write to Christopher Rogers.

For copies of the proposed rule on CHB and recreational HMS permits, contact Brad Mchale or Pasqulae Scida at 978-281-9260.

Written comments on these proposed rules should be sent to Christopher Rogers, Chief, Highly Migratory Species Management Division, Office of Sustainable Fisheries (F/SF1), National Marine Fisheries Service, 1315 East-West Highway, Silver Spring, MD 20910. Comments also may be sent via facsimile (fax) to 301-713-1917. Comments will not be accepted if submitted via e-mail.

FOR FURTHER INFORMATION CONTACT: Tyson Kade and Margo Schulze-Haugen at 301-713-2347 about the sea turtle and whale protection measures and Brad Mchale and Pasquale Scida at 978-281-9260 about CHB and recreational HMS permits.

SUPPLEMENTARY INFORMATION: The proposed regulations that are the subjects of these hearings are necessary to address requirements of the Magnuson-Stevens Fishery Conservation and Management Act and the Endangered Species Act.

A complete description of the sea turtle and whale protection measures and the purpose and need for the proposed action are contained in the proposed rule, published April 10, 2002 (67 FR 17349), and are not repeated here. Copies of the proposed rule may be obtained by writing (see ADDRESSES) or by calling the listed contact person (see FOR FURTHER INFORMATION CONTACT).

The proposed rule addressing CHB and recreational HMS permits will publish in the Federal Register on April 26, 2002. Upon publication, copies of the proposed rule may be obtained by writing (see ADDRESSES) or by calling the listed contact person (see FOR FURTHER INFORMATION CONTACT).

Hearing Dates, Times, and Locations

The hearings for these proposed rules will be conducted jointly at the identified locations. NMFS intends to dedicate half of the hearing time to each proposed rule. The public hearing schedule is as follows:

Wednesday, May 8, 2002-Panama City, FL, 7-9 p.m.—NMFS Panama City Laboratory, 3500 Delwood Beach Road, Panama City, FL 32408

Monday, May 13, 2002-Barnegat Light, NJ, 7-9 p.m.— Barnegat Light Fire House, 10th and Boulevard Street, Long Beach Island, Barnegat Light, NJ 08006

Wednesday, May 15, 2002-Riverhead, NY, 7-9 p.m.— Riverhead Town Hall, 200 Howell Avenue, Riverhead, NY 11901

Friday, May 17, 2002-Silver Spring, MD, 2-4 p.m.—NOAA Science Center, 1301 East-West Highway, Silver Spring, MD 20910

Public Hearings Code of Conduct

The public is reminded that NMFS expects participants at the public hearings to conduct themselves appropriately. At the beginning of each public hearing, a representative of NMFS will explain the ground rules (e.g., alcohol is prohibited from the hearing room; attendees will be called to give their comments in the order in which they registered to speak; each attendee will have an equal amount of time to speak; and attendees should not interrupt one another). The NMFS representative will attempt to structure the hearing so that all attending members of the public will be able to comment, if they so choose, regardless of the controversial nature of the subject(s). Attendees are expected to respect the ground rules, and, if they do not, they will be asked to leave the hearing.

Special Accommodations

The hearings are physically accessible to people with disabilities. Requests for sign language interpretation or other auxiliary aids should be directed to Tyson Kade (see FOR FURTHER INFORMATION CONTACT) at least 7 days prior to the hearing.

Authority: 16 U.S.C. 971 et seq., and 16 U.S.C. 1801 et seq.

Dated: April 24, 2002.
Bruce C. Morehead,
Acting Director, Office of Sustainable Fisheries, National Marine Fisheries Service.

[FR Doc. 02-10487 Filed 4-24-02; 3:20 pm]

BILLING CODE 3510-22-S